NATIONAL AERONAUTICS AND SPACE ADMINISTRATION

[Notice (10-055)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: May 21, 2010.

FOR FURTHER INFORMATION CONTACT: Robert M. Padilla, Patent Counsel, Ames Research Center, Code 202A-4, Moffett Field, CA 94035-1000; telephone (650) 604-5104; fax (650) 604-2767.

NASA Case No. ARC-14653-1: Air Traffic Management Evaluation Tool (FACET).

NASA Case No. ARC-16320-1: Model-Based Prognostics for Batteries.

NASA Case No. ARC-16342-1: Advanced Sensor Technology for Algai Biotechnology (ASTAB).

NASA Case No. ARC-16370-1: A Truss Beam Having Convex-Curved Rods, Shear Web Panels, and Self-Aligning Adapters.

NASA Case No. ARC-16407-1: Content Analysis to Detect High Stress in Oral Interviews and Text Documents.

Dated: May 17, 2010.
Richard W. Sherman,
Deputy General Counsel.

[FR Doc. 2010-12163 Filed 5-20-10; 8:45 am]

BILLING CODE 7510-13-P